DEPARTMENT OF THE INTERIOR

National Park Service

Wekiva River System Advisory Management Commission Meeting

AGENCY: National Park Service, Department of the Interior.

ACTION: Notice of meeting.

SUMMARY: This notice announces a June 28, 2005, meeting of the Wekiva River System Advisory Management Commission.

DATES: The meeting will be held Tuesday, June 28, 2005, at 7 p.m.

ADDRESSES: The meeting will be held at the Sylvan Lake Park, 845 Lake Markham Rd., Sanford, FL 32771. Sylvan Lake Park is located off Interstate 4 at Exit 51 (SR 46). Take SR 46 West to Lake Markam Rd. Turn left on Lake Markham Rd and continue one mile to Sylvan Lake Park on the left. Call (407) 322-6567 or visit http://www.seminolecountyfl.gov/lls/parks/parkInfo.asp?id=20 for additional on this facility.

FOR FURTHER INFORMATION CONTACT: Jamie Fosburgh, Rivers Program Manager, Northeast Region—Boston, 15 State Street, Boston, MA 02109, telephone (617) 223-5191.

SUPPLEMENTARY INFORMATION: The Meeting will be open to the public. The agenda will include: Welcome & Introductions; Election of Officers; Presentations on Existing Management Plans and River-Related Issues & Gaps; Next Steps in Plan Development; Consideration of The Nature Conservancy Membership Request; Updates on Operating Logistics and Related Topics; and Closing Summary/Next Steps. Any member of the public may file with the Commission a written statement concerning agenda items. The statement should be addressed to the Wekiva River System Advisory Management Commission, National Park Service, 15 State Street, Boston, MA 02109.

The Wekiva River System Advisory Management Commission was established by Public Law 106-299 to assist in the development of the comprehensive management plan for the Wekiva River System and provide advice to the Secretary in carrying out management responsibilities of the Secretary under the Wild and Scenic Rivers Act (16 U.S.C. 1274).

Dated: May 25, 2005.
Jamie Fosburgh,
Rivers Program Manager.

[FR Doc. 05-11146 Filed 6-3-05; 8:45 am]

BILLING CODE 4312-52-M